DEPARTMENT OF HOUSING AND URBAN DEVELOPMENT

[Docket No. FR-4652-N-18]

Announcement of OMB Approval Number for the Procedure for Obtaining Certificates of Insurance for Capital Program Projects

AGENCY: Office of the Assistant Secretary for Public and Indian Housing, HUD.

ACTION: Announcement of OMB approval number.

SUMMARY: The purpose of this notice is to announce the OMB approval number for the collection of information pertaining to the requirement for the consolidated public housing certificate of completion.

FOR FURTHER INFORMATION CONTACT: Arthur Methvin, Department of Housing and Urban Development, 451 7th Street, Southwest, Washington, DC 20410, telephone (202) 708-0614, extension 4037. This is not a toll-free number.

SUPPLEMENTARY INFORMATION: In accordance with the Paperwork Reduction Act of 1995 (44 U.S.C. Chapter 35, as amended), this notice advises that OMB has responded to the Department's request for approval of the information collection pertaining to the requirement for the consolidated public housing certificate of completion. The approval number for this information collection is 2577-0046, which expires 10/31/2004.

An agency may not conduct or sponsor, and a person is not required to respond to, a collection of information, unless it displays a currently valid OMB control number.

Dated: December 18, 2001.
Michael Liu,
Assistant Secretary for Public and Indian Housing.

[FR Doc. 01-31882 Filed 12-27-01; 8:45 am]

BILLING CODE 4310-33-M